DEPARTMENT OF ENERGY

Office of Energy Efficiency and Renewable Energy

Proposed Agency Information Collection Extension, With Changes

AGENCY: Office of Energy Efficiency and Renewable Energy, U.S. Department of Energy (DOE).

ACTION: Notice and request for OMB review and comment.

SUMMARY: The Department of Energy's (DOE) Office of Energy Efficiency and Renewable Energy (EERE) has submitted to the Office of Management and Budget (OMB) for clearance, a proposal for a three-year extension, with changes, of a collection of information under the provisions of the Paperwork Reduction Act of 1995. The proposed collection will provide DOE with the information necessary to meet its statutory and regulatory obligations under the National Environmental Policy Act (NEPA) of 1969 and the DOE NEPA implementing regulations, which requires EERE to perform environmental impact analyses prior to making a decision to provide Federal funding for research, development and demonstration projects funded by DOE.

DATES: Comments regarding this collection must be received on or before September 7, 2017.

ADDRESSES: Written comments should be sent to: DOE Desk Officer at Office of Information and Regulatory Affairs, Office of Management and Budget, New Executive Office Building, Room 10102, 735 17th Street NW., Washington, DC 20503.

And to: Lisa Jorgensen at U.S. Department of Energy, 15013 Denver West Parkway, Golden, CO 80401, by fax at (720-562-1640), or by email at: EEREEQComments@ee.doe.gov.

FOR FURTHER INFORMATION CONTACT: Requests for additional information or copies of the EERE Environmental Questionnaire should be directed to Lisa Jorgensen at: 720-356-1569 or by email at: EEREEQComments@ee.doe.gov. The EERE Environmental Questionnaire also is available for viewing in the Golden Field Office Public Reading Room at: www.energy.gov/node/2299401.

If you anticipate difficulty in submitting comments by the deadline, contact the DOE Desk Officer at OMB of your intention to make a submission as soon as possible. The Desk Officer may be telephoned at 202-395-4650.

SUPPLEMENTARY INFORMATION: This information collection request contains:

1. OMB No.: 1910-5175;

2. Information Collection Request Title: Office of Energy Efficiency and Renewable Energy (EERE) Environmental Questionnaire;

3. Type of Request: Extension, with changes;

4. Purpose: The DOE's EERE provides Federal funding through Federal assistance programs to businesses, industries, universities, and other groups for renewable energy and energy efficiency research and development and demonstration projects. The National Environmental Policy Act (NEPA) of 1969 (42 U.S.C. 4321 et seq.) requires that an environmental analysis be completed for all major Federal actions significantly affecting the environment including projects entirely or partly financed by Federal agencies. To effectively perform environmental analyses for these projects, the DOE's EERE needs to collect project-specific information from Federal financial assistance awardees. DOE's EERE has developed its Environmental Questionnaire to obtain the required information and ensure that its decision-making processes are consistent with NEPA as it relates to renewable energy and energy efficiency research and development and demonstration projects. Minor changes have been made to the Environmental Questionnaire that help to clarify certain questions, but do not change the meaning of the questions being asked;

5. Annual Estimated Number of Total Responses: 300;

6. Average Hours per Response: 1; and

7. Annual Estimated Number of Burden Hours: 300.

Statutory Authority: National Environmental Policy Act (NEPA) (42 U.S.C. 4321 et seq.).

Issued in Golden, CO, on July 21, 2017.
Robin L. Sweeney,
Director, Environment, Safety, and Health, Office of Energy Efficiency and Renewable Energy.

[FR Doc. 2017-16598 Filed 8-7-17; 8:45 am]

BILLING CODE 6450-01-P